DEPARTMENT OF COMMERCE

International Trade Administration

[A-570-831]

Fresh Garlic From the People's Republic of China: Final Results and Rescission of Antidumping Duty Administrative Review; 2021-2022

AGENCY: Enforcement and Compliance, International Trade Administration, Department of Commerce.

SUMMARY: The U.S. Department of Commerce (Commerce) determines that Jining Huahui International Co., Ltd. (Huahui) did not make a bona fide sale of fresh garlic during the period of review (POR) November 1, 2021 through October 31, 2022. Therefore, we are rescinding this administrative review.

DATES: Applicable June 6, 2024.

FOR FURTHER INFORMATION CONTACT: Charles DeFilippo or Jacob Saude, AD/CVD Operations, Office VII, Enforcement and Compliance, International Trade Administration, U.S. Department of Commerce, 1401 Constitution Avenue NW, Washington, DC 20230; telephone: (202) 482-3797 or 202-482-0981, respectively.

SUPPLEMENTARY INFORMATION:

Background

On December 6, 2023, Commerce published its Preliminary Results in the Federal Register and invited interested parties to comment.¹ On January 12, 2024, Huahui timely submitted its case brief.² On January 29, 2024, the petitioners ³ timely submitted their rebuttal brief.⁴ On April 2, 2024, Commerce extended the deadline for these final results until May 31, 2024.⁵

¹ See Fresh Garlic from the People's Republic of China: Preliminary Results, Partial Rescission, and Preliminary Intent To Rescind Antidumping Duty Administrative Review; 2021-2022, 88 FR 84782 (December 6, 2023) (Preliminary Results), and accompanying Preliminary Decision Memorandum (PDM) and Preliminary Bona Fide Analysis Memo.

² See Huahui's Letter, “Case Brief of Jining Huahui International Co., Ltd.,” dated January 12, 2024 (Huahui's Case Brief).

³ The petitioners are the Fresh Garlic Producers Association and its individual members Christopher Ranch, LLC, The Garlic Company, and Valley Garlic, Inc.

⁴ See Petitioners' Letter, “Petitioners' Rebuttal Case Brief,” dated January 29, 2024 (Petitioners' Rebuttal Brief).

⁵ See Memorandum, “Extension of Deadline for Final Results of Antidumping Duty Administrative Review,” dated April 2, 2024.

Scope of the Order

The product covered by the order is fresh garlic from China. For a full description of the scope, see the Issues and Decision Memorandum.⁶

⁶ See Memorandum, “Decision Memorandum for the Final Results of the Administrative Review of the Antidumping Duty Order on Fresh Garlic from the People's Republic of China; 2021-2022,” dated concurrently with, and hereby adopted by, this notice (Issues and Decision Memorandum).

Analysis of Comments Received

All issues addressed in case and rebuttal briefs are listed in the appendix to this notice and are addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum is available at https://access.trade.gov/public/FRNoticesListLayout.aspx.

Bona Fides Analysis and Rescission of Review

In the Preliminary Results, Commerce found that Huahui's sales of subject merchandise to the United States during the POR were not bona fide sales. Based on an analysis of the interested parties' comments, we continue to find that Huahui did not have a bona fide sale during the POR. Commerce reached this conclusion based on its consideration of the totality of circumstances, including, but not limited to: (1) the value and unit price of the sales; (2) the fact that the goods were not resold at a profit; (3) the questionable arm's-length basis of the sales; (4) and other relevant issues such as the circumstances surrounding payment and likelihood of future sales. Consequently, we are rescinding this administrative review with respect to Huahui and Jining Huahui International Trade Co.

Assessment Rates

Because Commerce is rescinding this administrative review, we have not calculated a company-specific dumping margin for Huahui. Huahui remains part of the China-wide entity and the entry of its subject merchandise during the POR will be assessed antidumping duties at the China-wide entity rate. The China-wide entity rate is $4.71 per kilogram.⁷

⁷ See Fresh Garlic from the People's Republic of China: Final Results and Partial Rescission of the 14th Antidumping Duty Administrative Review, 75 FR 34976 (June 21, 2010).

Cash Deposit Requirements

As noted above, Commerce is rescinding this administrative review. Thus, we have not calculated a company-specific dumping margin for Huahui. Therefore, entries of Huahui's subject merchandise continue to be subject to the China-wide entity cash deposit rate of $4.71 per kilogram. This cash deposit requirement shall remain in effect until further notice.

Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act, and 19 CFR 351.213(d)(3)

Dated: May 30, 2024.
Abdelali Elouaradia,
Deputy Assistant Secretary for Enforcement and Compliance.

Appendix

List of Topics Discussed in the Issues and Decision Memorandum

I. Summary

II. Background

III. Scope of the Order

IV. Discussion of the Issues

Comment 1: Whether Commerce's Price Analysis Ignores Distortions in the U.S. Customs and Border Protection Data

Comment 2: Whether Commerce's Analysis of Goods Resold at a Profit Ignores Commercial Realities

Comment 3: Whether Commerce's Arm's Length Analysis Ignores Huahui and Evaluates the Wrong Commercial Relationship

Comment 4: Whether Commerce's Analysis of Payments Ignores Commerce's Established Practice

Comment 5: Whether Commerce's Analysis of Likelihood of Future Sales Ignores Commercial Realities

V. Recommendation

[FR Doc. 2024-12351 Filed 6-5-24; 8:45 am]

BILLING CODE 3510-DS-P